DEPARTMENT OF LABOR

Employment and Training Administration

[TA-W-62,633]

Faurecia Exhaust Systems Including On-Site Leased Workers From Industrial Distribution Group—Midwest Division, Granger, IN; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on January 15, 2008, applicable to workers of Faurecia Exhaust Systems, Granger, Indiana. The notice was published in the Federal Register on February 1, 2008 (73 FR 6212).

At the request of the State agency, the Department reviewed the certification for workers of the subject firm. The workers are engaged in the production of automotive exhaust systems.

New information shows that leased workers of Industrial Distribution Group—Midwest Division were employed on-site at the Granger, Indiana location of Faurecia Exhaust Systems. The Department has determined that these workers were sufficiently under the control of the subject firm to be considered leased workers.

Based on these findings, the Department is amending this certification to include leased workers of Industrial Distribution Group—Midwest Division working on-site at the Granger, Indiana location of the subject firm.

The intent of the Department's certification is to include all workers employed at Faurecia Exhaust Systems, Granger, Indiana who were adversely affected by a shift in production of automotive exhaust systems to Mexico.

The amended notice applicable to TA-W-62,633 is hereby issued as follows:

All workers of Faurecia Exhaust Systems, including on-site leased workers from Industrial Distribution Group—Midwest Division, Granger, Indiana, who became totally or partially separated from employment on or after January 2, 2007, through January 15, 2010, are eligible to apply for adjustment assistance under Section 223 of the Trade Act of 1974, and are also eligible to apply for alternative trade adjustment assistance under Section 246 of the Trade Act of 1974.

Signed at Washington, DC, this 21st day of April 2008.
Richard Church,
Certifying Officer, Division of Trade Adjustment Assistance.

[FR Doc. E8-9102 Filed 4-24-08; 8:45 am]

BILLING CODE 4510-FN-P